DEPARTMENT OF ENERGY

Federal Energy Regulatory Commission

Combined Notice of Filings #1

Take notice that the Commission received the following exempt wholesale generator filings:

Docket Numbers: EG22-62-000.

Applicants: LeConte Energy Storage, LLC.

Description: LeConte Energy Storage, LLC submits Notice of Self-Certification of Exempt Wholesale Generator Status.

Filed Date: 3/15/22.

Accession Number: 20220315-5101.

Comment Date: 5 p.m. ET 4/5/22.

Take notice that the Commission received the following electric rate filings:

Docket Numbers: ER20-2471-004.

Applicants: NedPower Mount Storm, LLC.

Description: Refund Report: NedPower Mount Storm LLC submits tariff filing per 35.19a(b): Refund Report to be effective N/A.

Filed Date: 3/15/22.

Accession Number: 20220315-5001.

Comment Date: 5 p.m. ET 4/5/22.

Docket Numbers: ER22-821-002.

Applicants: Spotlight Power LLC.

Description: Tariff Amendment: 2nd Amended Spotlight Power LLC Baseline MBR Tariff & Application (ER22-821-) to be effective 3/16/2022.

Filed Date: 3/15/22.

Accession Number: 20220315-5193.

Comment Date: 5 p.m. ET 3/25/22.

Docket Numbers: ER22-991-001.

Applicants: PPL Electric Utilities Corporation, PJM Interconnection, L.L.C.

Description: Tariff Amendment: PPL Electric Utilities Corporation submits tariff filing per 35.17(b): PPL Electric submits Amendment to OATT, Att. M-2 in Docket No. ER22-991 to be effective 4/4/2022.

Filed Date: 3/15/22.

Accession Number: 20220315-5133.

Comment Date: 5 p.m. ET 4/5/22.

Docket Numbers: ER22-1114-001.

Applicants: Public Service Company of New Mexico.

Description: Tariff Amendment: Supplement to Rate Schedule No. 144 to be effective 3/1/2022.

Filed Date: 3/15/22.

Accession Number: 20220315-5209.

Comment Date: 5 p.m. ET 3/22/22.

Docket Numbers: ER22-1309-000.

Applicants: Midcontinent Independent System Operator, Inc., American Transmission Company LLC.

Description: § 205(d) Rate Filing: Midcontinent Independent System Operator, Inc. submits tariff filing per 35.13(a)(2)(iii): 2022-03-15_SA 2793 ATC-City of Eagle River 2nd Rev CFA to be effective 5/15/2022.

Filed Date: 3/15/22.

Accession Number: 20220315-5053.

Comment Date: 5 p.m. ET 4/5/22.

Docket Numbers: ER22-1310-000.

Applicants: Midcontinent Independent System Operator, Inc., American Transmission Company LLC.

Description: § 205(d) Rate Filing: Midcontinent Independent System Operator, Inc. submits tariff filing per 35.13(a)(2)(iii): 2022-03-15_SA 2768 ATC-City of Plymouth 2nd Rev CFA to be effective 5/15/2022.

Filed Date: 3/15/22.

Accession Number: 20220315-5055.

Comment Date: 5 p.m. ET 4/5/22.

Docket Numbers: ER22-1312-000.

Applicants: Midcontinent Independent System Operator, Inc., American Transmission Company LLC.

Description: § 205(d) Rate Filing: Midcontinent Independent System Operator, Inc. submits tariff filing per 35.13(a)(2)(iii): 2022-03-15_SA 2776 ATC-Village of Prairie du Sac 2nd Rev CFA to be effective 5/15/2022.

Filed Date: 3/15/22.

Accession Number: 20220315-5058.

Comment Date: 5 p.m. ET 4/5/22.

Docket Numbers: ER22-1324-000.

Applicants: LeConte Energy Storage, LLC.

Description: Baseline eTariff Filing: Application for Market-Based Rate Authorization.

Filed Date: 3/15/22.

Accession Number: 20220315-5090.

Comment Date: 5 p.m. ET 4/5/22.

Docket Numbers: ER22-1332-000.

Applicants: Midcontinent Independent System Operator, Inc., American Transmission Company LLC.

Description: § 205(d) Rate Filing: Midcontinent Independent System Operator, Inc. submits tariff filing per 35.13(a)(2)(iii): 2022-03-15_SA 2804 ATC-City of Richland Center 2nd Rev CFA to be effective 5/15/2022.

Filed Date: 3/15/22.

Accession Number: 20220315-5108.

Comment Date: 5 p.m. ET 4/5/22.

Docket Numbers: ER22-1338-000.

Applicants: Duke Energy Ohio, Inc., Duke Energy Kentucky, Inc., PJM Interconnection, L.L.C.

Description: § 205(d) Rate Filing: Duke Energy Ohio, Inc. submits tariff filing per 35.13(a)(2)(iii): DEOK submits revisions to OATT Attachment H-22A to be effective 5/15/2022.

Filed Date: 3/15/22.

Accession Number: 20220315-5149.

Comment Date: 5 p.m. ET 4/5/22.

Docket Numbers: ER22-1344-000.

Applicants: Dominion Energy South Carolina, Inc.

Description: § 205(d) Rate Filing: Depreciation Rates to be effective9/1/2021.

Filed Date: 3/15/22.

Accession Number: 20220315-5183.

Comment Date: 5 p.m. ET 4/5/22.

Docket Numbers: ER22-1346-000.

Applicants: Tucson Electric Power Company.

Description: § 205(d) Rate Filing: Rate Schedule No. 349, Concurrence to PNM RS No. 177 to be effective 3/8/2022.

Filed Date: 3/15/22.

Accession Number: 20220315-5211.

Comment Date: 5 p.m. ET 4/5/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 15, 2022.
Kimberly D. Bose,
Secretary.

[FR Doc. 2022-05886 Filed 3-18-22; 8:45 am]

BILLING CODE 6717-01-P